DEPARTMENT OF TRANSPORTATION

14 CFR Part 71

[Docket No. FAA-2002-14044; Airspace Docket No. 02-AGL-22]

Establishment of Class E Airspace; Cavalier, ND; Correction

AGENCY: Federal Aviation administration (FAA), DOT.

ACTION: Final rule; correction.

SUMMARY: This action corrects several errors contained in a final rule that was published in the Federal Register on Monday, April 21, 2003 (68 FR 19342). The final rule established Class E airspace at Cavalier, ND.

EFFECTIVE DATE: 0901 UTC, July 10, 2003.

FOR FURTHER INFORMATION CONTACT: Denis C. Burke, Air Traffic Division, Airspace Branch, AGL-520, Federal Aviation Administration, 2300 East Devon Avenue, Des Plaines, IL 60018, telephone: (847) 294-7477.

SUPPLEMENTARY INFORMATION:

History

Federal Register Document 03-9728 published on Monday, April 21, 2003 (68 FR 19342), established Class E Airspace at Cavalier, ND. Cavalier was misspelled throughout the docket. This action corrects these errors.

Accordingly, pursuant to the authority delegated to me, the errors for the Class E Airspace, Cavalier, ND, as published in the Federal Register Monday, April 21, 2003, (68 FR 19342), (FR Doc. 03-9728), are corrected as follows:

1. On page 19342, Columns 2 and 3; in the title, under the summary, in the History, and in The rule, correct: “Cavelier” to read “Cavalier”.

2. On page 19343, Column 1; in the legal description, correct: “Cavelier” to read “Cavalier”.

§ 71.1 [Corrected]

* * * * *

Dated: Issued in Des Plaines, Illinois on June 25, 2003.
Nancy B. Shelton,
Manager, Air Traffic Division, Great Lakes Region.

[FR Doc. 03-15675 Filed 6-19-03; 8:45 am]

BILLING CODE 4910-13-M